DEPARTMENT OF ENERGY

Federal Energy Regulatory Commission

[Project No 77-222]

Pacific Gas and Electric Company; Notice of Availability of Environmental Assessment

March 12, 2009.

In accordance with the National Environmental Policy Act of 1969, as amended, and the Federal Energy Regulatory Commission's regulations, 18 CFR part 380 (Order No. 486, 52 FR 47879), the Commission has reviewed an application, filed March 6, 2008, requesting approval to temporarily amend article 52 of the Potter Valley Project license. The project is located on the Eel River and the East Branch Russian River in Lake and Mendocino Counties, California.

Pacific Gas and Electric Company (licensee for the Potter Valley Project) requested approval to divert additional water from the Eel River to the East Branch Russian River in the same manner as authorized previously by the Commission in an order titled, Order Granting Temporary Amendment of License Article 52, issued March 13, 2008. The request, if granted, would provide frost protection from March 15-April 14, 2009 while the Commission continues its review of the licensee's long-term frost protection plan.

The attached environmental assessment (EA), prepared by Commission staff in the Office of Energy Projects, analyzed the probable environmental effects of the proposed temporary amendment and has concluded that approval would not constitute a major Federal action significantly affecting the quality of the human environment.

A copy of the EA is available for review at the Commission or may be viewed on the Commission's Web site at http://www.ferc.gov using the “eLibrary” link. Enter the docket number excluding the last three digits in the docket number field to access documents. For assistance, contact FERC Online Support at ferconlinesupport@ferc.gov or toll-free at 1-866-208-3676, or for TTY, (202) 502-8659.

Kimberly D. Bose,
Secretary.

[FR Doc. E9-6064 Filed 3-19-09; 8:45 am]

BILLING CODE